ENVIRONMENTAL PROTECTION AGENCY

[FRL-11742-01-R6]

Clean Air Act Operating Permit Program; Petition for Objection to State Operating Permit for Commonwealth LNG, LLC, Cameron Parish, Louisiana

AGENCY: Environmental Protection Agency (EPA).

ACTION: Notice of final order on petition.

SUMMARY: The Environmental Protection Agency (EPA) Administrator signed an Order dated January 30, 2024, denying a Petition dated May 24, 2023 (the Petition), from Healthy Gulf and Sierra Club (the Petitioners). The petition requested that the EPA object to a Clean Air Act (CAA) title V operating permit issued by the Louisiana Department of Environmental Quality (LDEQ) to Commonwealth LNG, LLC, for its natural gas liquefaction and export facility located in Cameron Parish, Louisiana.

FOR FURTHER INFORMATION CONTACT: Jonathan Ehrhart, EPA Region 6 Office, Air Permits Section, (214) 665-2295, ehrhart.jonathan@epa.gov. The final order and petition are available electronically at: https://www.epa.gov/title-v-operating-permits/title-v-petition-database.

SUPPLEMENTARY INFORMATION: The EPA received a Petition from Healthy Gulf and Sierra Club dated May 24, 2023, requesting that the EPA object to the issuance of operating permit no. 0560-00997-V0, issued by LDEQ to Commonwealth LNG in Cameron Parish, Louisiana. On January 30, 2024, the EPA Administrator issued an Order denying the petition. The order itself explains the basis for the EPA's decision.

Sections 307(b) and 505(b)(2) of the CAA provide that a petitioner may request judicial review of those portions of an order that deny issues in a petition. Any petition for review shall be filed in the United States Court of Appeals for the appropriate circuit no later than April 15, 2024.

Dated: February 9, 2024.
David Garcia,
Director, Air and Radiation Division, Region 6.

[FR Doc. 2024-03199 Filed 2-14-24; 8:45 am]

BILLING CODE 6560-50-P